DEPARTMENT OF ENERGY

Federal Energy Regulatory Commission

[Docket No. RP00-163-000]

Kern River Gas Transmission Company; Notice of Proposed Changes in FERC Gas Tariff

January 19, 2000.

Take notice that on January 13, 2000, Kern River Gas Transmission Company (Kern River) tendered for filing as part of its FERC Gas Tariff, First Revised Volume No. 1, the following tariff sheets to be effective January 13, 2000.

Seventh Revised Sheet No. 70

Third Revised Sheet No. 88

First Revised Sheet No. 88-A

First Revised Sheet No. 89

Third Revised Sheet No. 90

Ninth Revised Sheet No. 500-A

Ninth Revised Sheet No. 600-A

Ninth Revised Sheet No. 700-A

Eighth Revised Sheet No. 891

Kern River states that the purpose of this filing is to establish procedures in its tariff to allow shippers to net and/or trade shipper imbalances.

Kern River states that is has served a copy of this filing upon its customers and interested state regulatory commissions.

Any person desiring to be heard or to protest said filing should file a motion to intervene or a protest with the Federal Energy Regulatory Commission, 888 First Street N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-1693 Filed 1-24-00; 8:45 am]

BILLING CODE 6717-01-M